DEPARTMENT OF COMMERCE

National Oceanic and Atmospheric Administration

50 CFR Part 665

RIN 0648-XG90

Fisheries in the Western Pacific; Bottomfish and Seamount Groundfish Fisheries; Correction

AGENCY: National Marine Fisheries Service (NMFS), National Oceanic and Atmospheric Administration (NOAA), Commerce.

ACTION: Temporary rule; closure; correction notice.

SUMMARY: This document corrects information regarding a fishery closure.

DATES: Effective April 16, 2008.

FOR FURTHER INFORMATION CONTACT: Karla Gore, NMFS Pacific Islands Region, 808-944-2273.

SUPPLEMENTARY INFORMATION: On April 7, 2008, NMFS published a notice that announced that NMFS is closing the commercial and non-commercial fisheries in the Main Hawaiian Islands fishery for seven deepwater bottomfish species (“Deep 7” bottomfish) as a result of reaching the total allowable catch (TAC) for the 2007-08 fishing year (73 FR 18718), effective on April 16, 2008.

The effective date of the temporary rule was correctly established as April 16, 2008. The SUPPLEMENTARY INFORMATION section of that document, however, contained an inadvertent error, stating that the TAC for the 2007-08 fishing year will be reached on April 17, 2008, and that the Main Hawaiian Islands Deep 7 bottomfish fishery will be closed from April 17, 2008, through the remainder of the fishing year.

The document should have read that the TAC would be reached on or before April 17, 2008, and that the Main Hawaiian Islands Deep 7 bottomfish fishery will be closed from April 16, 2008, through the remainder of the fishing year (opening again on September 1, 2008).

This action is required by § 665.72(c) and is exempt from review under Executive Order 12866.

Authority: 16 U.S.C. 1801 et seq.

Dated: April 9, 2008.
Emily H. Menashes,
Acting Director, Office of Sustainable Fisheries, National Marine Fisheries Service.

[FR Doc. E8-7908 Filed 4-11-08; 8:45 am]

BILLING CODE 3510-22-S